SMALL BUSINESS ADMINISTRATION

[Declaration of Disaster #3482]

State of Kentucky (Amendment #2)

In accordance with a notice received from the Department of Homeland Security—Federal Emergency Management Agency, effective April 4, 2003 and received in this office on April 29, 2003, the above numbered declaration is hereby amended to include Fleming County in the State of Kentucky as a disaster area due to damages caused by severe winter ice and snow storms, heavy rain, flooding, tornadoes, and mud and rock slides occurring on February 15 through February 26, 2003.

All other counties contiguous to the above named primary county have been previously declared.

All other information remains the same, i.e., the deadline for filing applications for physical damage is May 13, 2003, and for economic injury the deadline is December 15, 2003.

(Catalog of Federal Domestic Assistance Program Nos. 59002 and 59008).
Dated: April 29, 2003.
Herbert L. Mitchell,
Associate Administrator for Disaster Assistance.

[FR Doc. 03-11102 Filed 5-5-03; 8:45 am]

BILLING CODE 8025-01-P